COMMISSION ON CIVIL RIGHTS

Sunshine Meeting Act Notice

Date and Time: Friday, November 17, 2006, 9 a.m.

Place: U.S. Commission on Civil Rights, 624 9th Street, NW., Room 540, Washington, DC 20425.

The meeting is also accessible to the public through the following: Call-in number: 1-800-597-0731, Access Code Number: 43783773.

Federal Relay Service: 1-800-877-8339.

Status:

Agenda

I. Approval of Agenda

II. Approval of Minutes of October 13, Meeting

III. Announcements

IV. Staff Director's Report

V. Program Planning

• Briefing Report Benefits of Diversity in Elementary and Secondary Education

VI. Management and Operations

• Orange County Voter Harassment Letter

• 2007 Business Meeting and Briefing Calendar

VII. State Advisory Committee Issues

• Recharter Package for California State Advisory Committee

VIII. Future Agenda Items

IX. Adjourn

Contact Person For Further Information: Manuel Alba, Press and Communications (202) 376-8587.

David Blackwood,
General Counsel.

[FR Doc. 06-9186 Filed 11-7-06; 3:15 pm]

BILLING CODE 6335-01-M